DEPARTMENT OF ENERGY

Federal Energy Regulatory Commission

Combined Notice of Filings #1

Take notice that the Commission received the following electric rate filings:

Docket Numbers: ER10-2680-003.

Applicants: Puget Sound Energy, Inc.

Description: Puget Sound Energy, Inc. submits tariff filing per 35: OATT—Revision Schedule 3, 5, 6 & 13, to be effective 5/27/2011.

Filed Date: 05/31/2011.

Accession Number: 20110531-5000.

Comment Date: 5 p.m. Eastern Time on Tuesday, June 21, 2011.

Docket Numbers: ER10-2721-002.

Applicants: El Paso Electric Company.

Description: Notice of El Paso Electric Company of Non-Material Change in Status.

Filed Date: 05/31/2011.

Accession Number: 20110531-5071.

Comment Date: 5 p.m. Eastern Time on Tuesday, June 21, 2011.

Docket Numbers: ER11-2186-001.

Applicants: Ameren Illinois Company.

Description: Ameren Illinois Company submits tariff filing per 35: Compliance Filing for Ameren Illinois—Rate Schedules 119 and 120 to be effective 6/1/2011.

Filed Date: 05/31/2011.

Accession Number: 20110531-5011.

Comment Date: 5 p.m. Eastern Time on Tuesday, June 21, 2011.

Docket Numbers: ER11-2187-001.

Applicants: Ameren Illinois Company.

Description: Ameren Illinois Company submits tariff filing per 35: Compliance Filing for Ameren Illinois—Rate Schedules 126 and 133, to be effective 6/1/2011.

Filed Date: 05/31/2011.

Accession Number: 20110531-5009.

Comment Date: 5 p.m. Eastern Time on Tuesday, June 21, 2011.

Docket Numbers: ER11-2191-001.

Applicants: Ameren Illinois Company.

Description: Ameren Illinois Company submits tariff filing per 35: Compliance Filing for Ameren Illinois—Rate Schedules 128 and 129 to be effective 6/1/2011.

Filed Date: 05/31/2011.

Accession Number: 20110531-5007.

Comment Date: 5 p.m. Eastern Time on Tuesday, June 21, 2011.

Docket Numbers: ER11-2197-001.

Applicants: Ameren Illinois Company.

Description: Ameren Illinois Company submits tariff filing per 35: Compliance Filing for Ameren Illinois—Rate Schedules 123, 124, 132, to be effective 6/1/2011.

Filed Date: 05/31/2011.

Accession Number: 20110531-5005.

Comment Date: 5 p.m. Eastern Time on Tuesday, June 21, 2011.

Docket Numbers: ER11-2977-002.

Applicants: Southern California Edison Company.

Description: Southern California Edison Company submits tariff filing per 35: Compliance Filing to WDAT Revise Generator Interconnection Procedures to be effective 3/2/2011.

Filed Date: 05/31/2011.

Accession Number: 20110531-5178.

Comment Date: 5 p.m. Eastern Time on Tuesday, June 21, 2011.

Docket Numbers: ER11-3004-002.

Applicants: Pacific Gas and Electric Company.

Description: Pacific Gas and Electric Company submits tariff filing per 35: Compliance Filing for WD Tariff: Generator Interconnection Procedures to be effective 3/3/2011.

Filed Date: 05/31/2011.

Accession Number: 20110531-5165.

Comment Date: 5 p.m. Eastern Time on Tuesday, June 21, 2011.

Docket Numbers: ER11-3547-001.

Applicants: RG Steel Sparrows Point LLC.

Description: RG Steel Sparrows Point LLC submits tariff filing per 35.17(b): RG Steel Revised Baseline MBRA ETariff to be effective 5/11/2011.

Filed Date: 05/31/2011.

Accession Number: 20110531-5015.

Comment Date: 5 p.m. Eastern Time on Tuesday, June 21, 2011.

Docket Numbers: ER11-3668-000.

Applicants: Pacific Gas and Electric Company.

Description: Pacific Gas and Electric Company submits tariff filing per 35.13(a)(2)(iii: Western WDT May 2011 Biannual Filing to be effective 2/14/2011.

Filed Date: 05/31/2011.

Accession Number: 20110531-5003.

Comment Date: 5 p.m. Eastern Time on Tuesday, June 21, 2011.

Docket Numbers: ER11-3669-000.

Applicants: Pacific Gas and Electric Company.

Description: Pacific Gas and Electric Company submits tariff filing per 35.13(a)(2)(iii: Western IA May 2011 Biannual Filing to be effective 2/14/2011.

Filed Date: 05/31/2011.

Accession Number: 20110531-5004.

Comment Date: 5 p.m. Eastern Time on Tuesday, June 21, 2011.

Docket Numbers: ER11-3670-000.

Applicants: ArcelorMittal USA LLC.

Description: ArcelorMittal USA LLC submits tariff filing per 35: AMU MBRA Compliance Filing, to be effective 5/31/2011.

Filed Date: 05/31/2011.

Accession Number: 20110531-5014.

Comment Date: 5 p.m. Eastern Time on Tuesday, June 21, 2011.

Docket Numbers: ER11-3671-000.

Applicants: California Independent System Operator Corporation.

Description: California Independent System Operator Corporation submits tariff filing per 35.13(a)(2)(iii: 2011-05-31 CAISO Service Agreement 625 MSSA with Anaheim to be effective 7/28/2010.

Filed Date: 05/31/2011.

Accession Number: 20110531-5104.

Comment Date: 5 p.m. Eastern Time on Tuesday, June 21, 2011.

Docket Numbers: ER11-3672-000.

Applicants: Southwest Power Pool, Inc.

Description: Southwest Power Pool, Inc. submits tariff filing per 35.13(a)(2)(iii: 2158 Arkansas Valley Electric Cooperative Corp. NITSA NOA to be effective 5/1/2011.

Filed Date: 05/31/2011.

Accession Number: 20110531-5106.

Comment Date: 5 p.m. Eastern Time on Tuesday, June 21, 2011.

Docket Numbers: ER11-3673-000.

Applicants: PJM Interconnection, L.L.C.

Description: PJM Interconnection, L.L.C. submits tariff filing per 35.13(a)(2)(iii: Queue No. W3-063; Original Service Agreement No. 2923 to be effective 5/3/2011.

Filed Date: 05/31/2011.

Accession Number: 20110531-5116.

Comment Date: 5 p.m. Eastern Time on Tuesday, June 21, 2011.

Docket Numbers: ER11-3674-000.

Applicants: New York Independent System Operator, Inc.

Description: New York Independent System Operator, Inc. submits tariff filing per 35.13(a)(2)(iii: NYISO Errata Filing re: 7/30/11 RLS filing Correcting Formula to be effective 10/21/2010.

Filed Date: 05/31/2011.

Accession Number: 20110531-5166.

Comment Date: 5 p.m. Eastern Time on Tuesday, June 21, 2011.

Docket Numbers: ER11-3675-000.

Applicants: California Independent System Operator Corporation.

Description: California Independent System Operator Corporation submits tariff filing per 35.13(a)(2)(iii: 2011-05-31 CAISO Amendment 2 to MSSA with Anaheim to be effective 7/1/2011.

Filed Date: 05/31/2011.

Accession Number: 20110531-5167.

Comment Date: 5 p.m. Eastern Time on Tuesday, June 21, 2011.

Docket Numbers: ER11-3676-000.

Applicants: New England Power Pool Participants Committee.

Description: New England Power Pool Participants Committee submits tariff filing per 35.13(a)(2)(iii: June 2011 Membership Filing to be effective 5/1/2011.

Filed Date: 05/31/2011.

Accession Number: 20110531-5186.

Comment Date: 5 p.m. Eastern Time on Tuesday, June 21, 2011.

Docket Numbers: ER11-3677-000.

Applicants: CP Energy Marketing (US) Inc.

Description: CP Energy Marketing (US) Inc. submits tariff filing per 35: CP Energy Marketing (US) Inc.'s Notice of Change in Status Market-Based Rate Filing to be effective 4/29/2011.

Filed Date: 05/31/2011.

Accession Number: 20110531-5189.

Comment Date: 5 p.m. Eastern Time on Tuesday, June 21, 2011.

Docket Numbers: ER11-3678-000.

Applicants: Wisconsin Electric Power Company.

Description: Notice of Cancellation of Wisconsin Electric Power Company.

Filed Date: 05/31/2011.

Accession Number: 20110531-5196.

Comment Date: 5 p.m. Eastern Time on Tuesday, June 21, 2011.

Take notice that the Commission received the following public utility holding company filings:

Docket Numbers: PH11-14-000.

Applicants: NYSE Euronext, NYSE Blue.

Description: FERC-65A Notification of Exemption of NYSE Euronext, et al.

Filed Date: 05/31/2011.

Accession Number: 20110531-5060.

Comment Date: 5 p.m. Eastern Time on Tuesday, June 21, 2011.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov or call (866) 208-3676 (toll free). For TTY, call (202) 502-8659.

Dated: June 3, 2011.
Nathaniel J. Davis, Sr.,
Deputy Secretary.

[FR Doc. 2011-14512 Filed 6-10-11; 8:45 am]

BILLING CODE 6717-01-P